DEPARTMENT OF HEALTH AND HUMAN SERVICES

Substance Abuse and Mental Health Services Administration

Proposed Matching Requirements for Specific SAMHSA Discretionary Grant Funding Opportunities

Authority: Sections 509, 516, and 520A of the Public Health Service Act.

AGENCY: Substance Abuse and Mental Health Services Administration, HHS. The PHS Act states the Secretary may require non-Federal matching funds to ensure the institutional commitment to the projects funded under grant through cash or in kind donations from public or private entities including plant, equipment, or services.

ACTION: Notice of proposed matching requirements for specific SAMHSA discretionary grant funding opportunities.

SUMMARY: In fiscal year 2009, the Substance Abuse and Mental Health Services Administration (SAMHSA) plans to require matching funds for some discretionary grant funding opportunities within the Programs of Regional and National Significance as described in the President's Fiscal Year (FY) 2009 Budget Request. This notice describes the specific FY 2009 funding opportunities for which matching is proposed. We understand that some grantees could experience initial difficulty with the matching requirements. The goal of this solicitation is to seek comment so that we can design these activities to assist grantees in lessening these challenges over time.

DATES: Submit written comments on this proposal within 60 days from the date of publication.

ADDRESSES: Interested persons are invited to submit comments regarding SAMHSA proposed matching requirements to Shelly Hara, Office of Policy, Planning and Budget, SAMHSA, by fax (240) 276-2220 or by e-mail (matching@samhsa.hhs.gov). Please include a phone number in your correspondence so that SAMHSA staff may contact you if there are questions about your comments.

FOR FURTHER INFORMATION CONTACT: Shelly Hara, OPPB, SAMHSA, by fax (240) 276-2220 or e-mail (matching@samhsa.hhs.gov). If you would like a SAMHSA staff person to call you about your questions, please state this in your correspondence and provide a telephone number where you can be reached between 8:30 a.m. and 5 p.m., Eastern Standard Time.

SUPPLEMENTARY INFORMATION: SAMHSA has found that matching requirements assist grant communities in sustaining activities over the long term, help communities leverage resources (i.e., increasing the impact of grant-funded activities), and promote sustainability beyond the term for which Federal grant funding is provided. The FY 2009 President's Budget for SAMHSA includes matching requirements for several of SAMHSA's discretionary grant programs. Through matching requirements, grantees in these programs may be required to match the Federal dollars of the grant award with their own funds and resources. This could include cash and/or in-kind contributions from State and local government, foundations, private non-profit and/or for-profit organizations. See below for a description of each program and the proposed matching requirements.

Although matching requirements have not been used extensively in SAMHSA's discretionary grant programs, statutory matching requirements in certain SAMHSA grant programs have yielded some promising results with regard to sustainability and leveraging resources:

• A sustainability study of grantees funded between 1993 and 1995 through the Center for Substance Abuse Treatment's (CSAT's) Residential Women and Children and Pregnant and Postpartum Women (RWC/PPW) program found that a majority of grantees met with some success in sustaining their programs in one form or another beyond the end of Federal funding. The study identified several factors that were positively associated with sustainability. A match requirement may encourage grantees to engage in some of these activities, including early and careful planning for sustainability and developing relationships with other potential funders.

• The Center for Mental Health Services' (CMHS') Comprehensive Community Mental Health Services for Children program, which funds interagency, community-based systems of care, requires that grantees provide matching funds through a graduated approach, with an increasing match requirement over time. For example, in the fifth and sixth year of the grant, matching is not less than $2 for each $1 of Federal funds. Some grantees have reported that matching requirements contribute to community sustainability efforts for systems of care. For sites funded in 1993 and 1994 and assessed for sustainability five years after funding, 80% of sites achieved sustainability.

SAMHSA understands that some Tribes and smaller organizations and communities may have some difficulties in meeting initial match requirements. However, we have included some alternatives to address these challenges, such as seeking a postponement of the matching requirement in the first year, with an increased match in the following year. Matching elements help ensure current efforts are continued in the future.

When matching requirements are included in a program, grantees must provide non-Federal funds in cash or in-kind, fairly evaluated to match the Federal funds provided through the grant award. The specific rate of the match varies from program to program and may vary over time. Matching funds must meet the same test of allowability as costs charged to Federal grants. Sources of matching funds include State and local governmental appropriations (non-Federal), grants awarded by foundations, and funding provided by other private non-profit or for-profit organizations. In-kind contributions may include facilities, equipment, or services used in direct support of the project.

SAMHSA is seeking comment on a proposed 20% matching requirement (i.e., $2 for every $10 in Federal grant funds) for the first year with a graduated match in the succeeding years for the following programs in the FY 2009 President's budget:

• A new Center for Substance Abuse Prevention (CSAP) Targeted Capacity Expansion program to help communities address emerging prevention needs identified by States and local communities. It is expected that $7 million of Federal funds could support 14 new grants to be awarded to local governments, community-based organizations, and tribal entities. These grants are expected to expand or enhance a community's ability to provide rapid, strategic, comprehensive, and integrated prevention programs, practices, and strategies to specific, well-documented emerging needs.

• A new Center for Mental Health Services (CMHS) Targeted Capacity Expansion program to help communities address emerging mental health needs identified by local communities. It is expected that $7.3 million of Federal funds could support 14 new grants to be awarded to State governments, local governments, communities, and tribal entities. These grants are expected to expand or enhance a community's ability to provide rapid, strategic, comprehensive, and integrated responses to specific, well-documented mental health capacity problems, including technical assistance.

The Center for Substance Abuse Treatment (CSAT) Screening, Brief Intervention, Referral, and Treatment (SBIRT) program for States, territories, Federally recognized Tribes and tribal organizations. The SBIRT program has been in existence since FY 2003. The purpose of the program is to integrate screening, brief intervention, referral, and treatment services within general medical and primary care settings.

SAMHSA also seeks public comment on the following questions related to the matching requirements:

• What benefits would you expect as a result of including a matching requirement in the programs listed above?

• How will the matching requirement increase the sustainability of the grant projects funded through these programs?

• How will the matching requirement increase the services supported through the grant projects funded through these programs?

• What other benefits can be expected?

• What challenges would you anticipate as a result of including a matching requirement in the programs listed above? What suggestions do you have to help minimize those challenges?

—How would the benefits and challenges of the matching requirement change if the matching requirement were higher (e.g., 25% in year 1 and increasing in subsequent years)?

—What is the highest point at which the match would be supportable for you/your organization?

—At what level (i.e., percent of the grant) would the cost of a matching requirement become a barrier to applying for a grant from SAMHSA?

• As an applicant, would you be interested in a provision that would allow you to choose to defer the matching requirement in the first year of the grant, with an offsetting increased match in later years of the grant? What are the benefits and challenges of such an approach?

• What other options for a matching requirement (e.g., different percentages) would you recommend that SAMHSA consider?

Toian Vaughn,
Public Health Analyst, Substance Abuse and Mental Health, Services Administration.

[FR Doc. E8-18473 Filed 8-8-08; 8:45 am]

BILLING CODE 4162-20-P